DEPARTMENT OF COMMERCE

Foreign-Trade Zones Board

[B-11-2015]

Foreign-Trade Zone 168—Dallas/Fort Worth, Texas; Authorization of Production Activity; Samsung Electronics America, Inc.; (Kitting of Mobile Phones and Tablet Computers); Coppell, Texas

On February 20, 2015, the Metroplex International Trade Development Corporation, grantee of FTZ 168, submitted a notification of proposed production activity to the Foreign-Trade Zones (FTZ) Board on behalf of Samsung Electronics America, Inc, within Site 9, in Coppell, Texas.

The notification was processed in accordance with the regulations of the FTZ Board (15 CFR part 400), including notice in the Federal Register inviting public comment (80 FR 10456, 2-26-2015). The FTZ Board has determined that no further review of the activity is warranted at this time. The production activity described in the notification is authorized, subject to the FTZ Act and the Board's regulations, including Section 400.14.

Dated: June 22, 2015.
Elizabeth Whiteman,
Acting Executive Secretary.

[FR Doc. 2015-15795 Filed 6-26-15; 8:45 am]

BILLING CODE 3510-DS-P